DEPARTMENT OF THE TREASURY

Office of the Comptroller of the Currency

12 CFR Chapter I

[Docket ID FFIEC-2014-0001]

FEDERAL RESERVE SYSTEM

12 CFR Chapter II

[Docket No. R-1510]

FEDERAL DEPOSIT INSURANCE CORPORATION

12 CFR Chapter III

Regulatory Publication and Review Under the Economic Growth and Regulatory Paperwork Reduction Act of 1996

AGENCY: Office of the Comptroller of the Currency (“OCC”), Treasury; Board of Governors of the Federal Reserve System (“Board”); and Federal Deposit Insurance Corporation (“FDIC”).

ACTION: Notice of outreach meeting.

SUMMARY: The OCC, Board, and FDIC (“Agencies”) announce the fourth in a series of outreach meetings on the Agencies' interagency process to review their regulations under the Economic Growth and Regulatory Paperwork Reduction Act of 1996 (“EGRPRA”). The particular focus of this meeting is the effects of the Agencies' regulations on rural banks and their communities.

DATES: An outreach meeting will be held in Kansas City, Missouri on Tuesday, August 4, 2015, beginning at 9 a.m. Central Daylight Time (CDT). Online registrations will be accepted through July 27, 2015, or until all seats are filled, whichever is earlier. If seats are available after the close of online registration, individuals may register in person at the Federal Reserve Bank of Kansas City on the day of the meeting. Additional outreach meetings are scheduled for October 19, 2015, in Chicago, Illinois, and December 2, 2015, in Washington, DC.

ADDRESSES: The Agencies will hold the August 4, 2015, outreach meeting at the Federal Reserve Bank of Kansas City, 1 Memorial Drive, Kansas City, Missouri 64198. Live video of this meeting will be streamed at http://egrpra.ffiec.gov/. Participants attending in person should register at http://egrpra.ffiec.gov/outreach/outreach-index.html.

In addition, to enhance participation by bankers, consumer and community groups, and other interested persons who are located in various rural areas, interested persons anywhere in the country will have the opportunity to view and participate in the meeting online using their computers. These participants may provide comments following each panel presentation or at the conclusion of the meeting, as time permits. Members of the public watching online will be able to submit written comments using the text chat feature and verbal comments using the audio feature of the webcast. A toll-free telephone number also will be provided for members of the public who would like only to listen to the meeting, and who may choose later to submit written comments. Information regarding these additional participation options is described in the meeting details section for the Kansas City meeting at http://egrpra.ffiec.gov/outreach/outreach-meeting-details-kansascity.html.

Any interested individual may submit comments through the EGRPRA Web site during open comment periods at: http://egrpra.ffiec.gov/submit-comment/submit-comment-index.html.

On this site, click “Submit a Comment” and follow the instructions. Alternatively, comments may be submitted through the Federal eRulemaking Portal “Regulations.gov” at: http://www.regulations.gov. Enter “Docket ID FFIEC-2014-0001” in the Search Box, click “Search,” and click “Comment Now.” Those who wish to submit their comments by an alternate means may do so as indicated by each agency below.

OCC:

The OCC encourages commenters to submit comments through the Federal eRulemaking Portal, Regulations.gov, in accordance with the previous paragraph. Alternatively, comments may be emailed to regs.comments@occ.treas.gov or sent by mail to Legislative and Regulatory Activities Division, Office of the Comptroller of the Currency, Mail Stop 9W-11, 400 7th Street SW., Washington, DC 20219. Comments also may be faxed to (571) 465-4326 or hand delivered or sent by courier to 400 7th Street SW., Washington, DC 20219. For comments submitted by any means other than Regulations.gov, you must include “OCC” as the Agency name and “Docket ID FFIEC-2014-0001” in your comment.

In general, the OCC will enter all comments received into the docket and publish them without change on Regulations.gov. Comments received, including attachments and other supporting materials, as well as any business or personal information you provide, such as your name and address, email address, or phone number, are part of the public record and subject to public disclosure. Therefore, please do not include any information with your comment or supporting materials that you consider confidential or inappropriate for public disclosure.

You may inspect and photocopy in person all comments received by the OCC at 400 7th Street SW., Washington, DC 20219. For security reasons, the OCC requires that visitors make an appointment to inspect or photocopy comments. You may make an appointment by calling (202) 649-6700. Upon arrival, visitors will be required to present valid government-issued photo identification and submit to a security screening.

Board:

The Board encourages commenters to submit comments regarding the Board's regulations by any of the following methods:

• Agency Web site: http://www.federalreserve.gov/apps/foia/proposedregs.aspx. Follow the instructions for submitting comments on the Agency Web site.

• Federal eRulemaking Portal, in accordance with the directions above.

• Email: regs.comments@federalreserve.gov. Include “EGRPRA” and Docket No. R-1510 in the subject line of the message.

• FAX: (202) 452-3819.

• Mail: Robert deV. Frierson, Secretary, Board of Governors of the Federal ReserveSystem, 20th Street and Constitution Avenue NW., Washington, DC 20551.

In general, the Board will enter all comments received into the docket and publish them without change on the Board's public Web site, www.federalreserve.gov; Regulations.gov; and http://egrpra.ffiec.gov. Comments received, including attachments and other supporting materials, as well as any business or personal information you provide, such as your name and address, email address, or phone number, are part of the public record and subject to public disclosure. Therefore, please do not enclose any information with your comment or supporting materials that you consider confidential or inappropriate for public disclosure.

You may inspect and photocopy in person all comments received by the Board in Room 3515, 1801 K Street NW. (between 18th and 19th Street NW.), Washington, DC 20006, between 9:00 a.m. and 5:00 p.m. on weekdays. For security reasons, the Board requires that visitors make an appointment to inspect comments. You may make an appointment by calling (202) 452-3000. Upon arrival, visitors will be required to present valid government-issued photo identification and submit to a security screening.

FDIC:

The FDIC encourages commenters to submit comments through the Federal eRulemaking Portal, Regulations.gov, in accordance with the directions above. Alternatively, you may submit comments by any of the following methods:

• Agency Web site: http://www.fdic.gov/regulations/laws/federal. Follow instructions for submitting comments on the Agency Web site.

• Email: Comments@FDIC.gov. Include “EGRPRA” in the subject line of the message.

• Mail: Robert E. Feldman, Executive Secretary, Attention: Comments, Federal Deposit Insurance Corporation, 550 17th Street NW., Washington, DC 20429.

• Hand Delivery/Courier: Guard station at the rear of the 550 17th Street Building (located on F Street) on business days between 7:00 a.m. and 5:00 p.m. (EDT).

The FDIC will post all comments received to http://www.fdic.gov/regulations/laws/federal without change, including any personal information provided. Comments may be inspected and photocopied in the FDIC Public Information Center, 3501 North Fairfax Drive, Room E-1002, Arlington, VA 22226, between 9:00 a.m. and 5:00 p.m. (EDT) on business days. Paper copies of public comments may be ordered from the Public Information Center by calling (877) 275-3342.

FOR FURTHER INFORMATION CONTACT: OCC: Heidi M. Thomas, Special Counsel, (202) 649-5490; Rima Kundnani, Attorney, (202) 649-5545; for persons who are deaf or hard of hearing, TTY (202) 649-5597.

Board: Kevin Wilson, Financial Analyst, (202) 452-2362; Claudia Von Pervieux, Counsel (202) 452-2552; for persons who are deaf or hard of hearing, TTY (202) 263-4869.

FDIC: Ruth R. Amberg, Assistant General Counsel, (202) 898-3736; for persons who are deaf or hard of hearing, TTY 1-800-925-4618.

SUPPLEMENTARY INFORMATION: EGRPRA ¹ directs the Agencies, along with the Federal Financial Institutions Examination Council (Council), not less frequently than once every ten years, to conduct a review of their regulations to identify outdated or otherwise unnecessary regulations imposed on insured depository institutions. As part of this review, the Agencies are holding a series of six outreach meetings to provide an opportunity for bankers, consumer and community groups, and other interested persons to present their views directly to senior management and staff of the Agencies on any of 12 specific categories of the Agencies' regulations, as further described below. The Agencies held the first of these outreach meetings on December 2, 2014, in Los Angeles, California; the second outreach meeting on February 4, 2015, in Dallas, Texas; and the third outreach meeting on May 4, 2015, in Boston, Massachusetts. Recorded videos and transcripts of these outreach meetings are available on the EGRPRA Web site at http://egrpra.ffiec.gov/outreach/outreach-index.html.

¹ Public Law 104-208 (1996), 110 Stat. 3009-414, codified at 12 U.S.C. 3311.

The fourth outreach meeting will be held on August 4, 2015, in Kansas City, Missouri, and will be streamed live at http://egrpra.ffiec.gov/. Senior agency staff from the Board, OCC, and FDIC are scheduled to attend. The meeting will consist of panels of bankers and consumer and community groups who will present particular issues. As the fourth outreach meeting will focus on the effects of banking regulations on rural banks and their communities, the Agencies have requested that panelists give attention to these issues. There will be limited time after each panel for comments from meeting attendees and online participants. In addition, there will be a session at the end of the meeting during which audience members and online participants may present views on any of the regulations under review. The Agencies reserve the right to limit the time of individual commenters, if needed, in order to accommodate the number of persons desiring to speak.

Comments made by panelists, audience members, and online participants at this meeting will be part of the public record. Audience members who do not wish to comment orally may submit written comments at the meeting. As noted above, any interested person may submit comments through the EGRPRA Web site during open comment periods at: http://egrpra.ffiec.gov/submit-comment/submit-comment-index.html or directly to the Agencies through any of the other manners specified above.

All persons wanting to participate in person should register for the Kansas City outreach meeting at http://egrpra.ffiec.gov/outreach/outreach-index.html. Because of space constraints, on-site attendance will be limited. Online registrations will be accepted through July 27, 2015, or until all seats are filled, whichever is earlier. If seats are available, individuals may register in person at the Federal Reserve Bank of Kansas City on the day of the meeting. Individuals do not need to register to view the live-stream broadcast.

We note that the meeting will be recorded and publicly webcast in order to increase education and outreach. By participating in the meeting, either in person or online, you consent to appear and to be heard in such recordings.

Additional Background on EGRPRA

Section 2222 of EGRPRA directs the Agencies, along with the Council, to conduct a review of their regulations not less frequently than once every ten years to identify outdated or otherwise unnecessary regulatory requirements imposed on insured depository institutions. In conducting this review, the Agencies are required to categorize their regulations by type and, at regular intervals, provide notice and solicit public comment on categories of regulations, requesting commenters to identify areas of regulations that are outdated, unnecessary, or unduly burdensome. The statute requires the Agencies to publish in the Federal Register a summary of the comments received, identifying significant issues raised and commenting on these issues. The statute also directs the Agencies to eliminate unnecessary regulations to the extent that such action is appropriate. Finally, section 2222 requires the Council, of which the Agencies are members, to submit a report to Congress that summarizes any significant issues raised in the public comments and the relative merits of such issues. The report also must include an analysis of whether the Agencies are able to address the regulatory burdens associated with such issues by regulation or whether these burdens must be addressed by legislative action.

For purposes of this review, the Agencies have grouped their regulations into 12 categories: Applications and Reporting; Banking Operations; Capital; Community Reinvestment Act; Consumer Protection; Directors, Officers and Employees; International Operations; Money Laundering; Powers and Activities; Rules of Procedure; Safety and Soundness; and Securities. On June 4, 2014, the Agencies published a Federal Register notice announcing the start of the EGRPRA review process and also asking for public comment on three of these categories—Applications and Reporting; Powers and Activities; and International Operations regulations.² In that notice the Agencies published a chart, listing their regulations in the 12 categories included in the EGRPRA review. On February 13, 2015, the Agencies published a second Federal Register notice asking for public comment on three additional categories—Banking Operations; Capital; and the Community Reinvestment Act.³ The comment period for the second Federal Register notice closed on May 14, 2015. On June 5, 2015, the Agencies published a third Federal Register notice asking for public comment on three additional categories—Consumer Protection; Directors, Officers and Employees; and Money Laundering.⁴ The comment period for the current notice will close on September 3, 2015.

² 79 FR 32172.

³ 80 FR 7980.

⁴ 80 FR 32046.

The third Federal Register notice also announced the Agencies' decision to expand the scope of the EGRPRA review in order to be as inclusive as possible. The Agencies will now take comment on all of their regulations issued in final form up to the date that they publish their last EGRPRA notice for public comment. The Agencies have included a separate chart in the third notice that lists the newly issued rules included in the review.

Dated: June 29, 2015.
Thomas J. Curry,
Comptroller of the Currency.
By order of the Board of Governors of the Federal Reserve System, June 29, 2015.
Robert deV. Frierson,
Secretary of the Board.
Dated: June 30, 2015.
Federal Deposit Insurance Corporation by
Robert E. Feldman,
Executive Secretary.

[FR Doc. 2015-16760 Filed 7-8-15; 8:45 am]

BILLING CODE 4810-33-P; 6210-01-P; 6714-01-P